DEPARTMENT OF HOMELAND SECURITY

National Protection and Programs Directorate (NPPD), Center for Faith-Based Community Initiatives; Agency Information Collection Activities: Submission for OMB Review; Comment Request

AGENCY: DHS, NPPD, Center for Faith-based Community Initiatives.

ACTION: Notice: 30-day notice and request for comments.

SUMMARY: The Department of Homeland Security (DHS), has submitted the following information collection to the Office of Management and Budget (OMB) for review and clearance in accordance with the requirements of the Paperwork Reduction Act of 1995 (Pub. L. 104-13, 44 U.S.C. Chapter 35). The information collection was previously published in the Federal Register on March 14, 2007 at 72 FR 11895-11896 allowing for a 60-day public comment period. No comments were received on this information collection. The purpose of this notice is to allow an additional 30 days for public comments. The submission describes the nature of the information collection, the categories of respondents, the estimated burden (i.e., the time, effort and resources used by respondents to respond) and cost, and includes the actual data collection instruments DHS will use.

DATES: Comments are encouraged and will be accepted until July 13, 2007.

ADDRESSES: Interested persons are invited to submit written comments on the proposed information collection to the Office of Information and Regulatory Affairs, Office of Management Budget, Attention: Nathan Lesser, Desk Officer, Department of Homeland Security/NPPD and sent via electronic mail to oira_submission@omb.eop.gov or faxed to (202) 395-6974.

FOR FURTHER INFORMATION CONTACT: A copy of this ICR, with applicable supporting documentation, may be obtained by calling Nathan Lesser, Desk Officer, Department of Homeland Security, Washington, DC 20528; and sent via electronic mail to oira_submission@omb.eop.gov or faxed to (202) 395-6974 (this is not a toll free number).

SUPPLEMENTARY INFORMATION: Title: Emergency Preparedness Workshop Questionnaires (DHS Forms 9006, 9008).

OMB Number: 1670-NEW.

Affected Public: For Profit and Not for Profit Businesses. Faith-based and Community organization representatives who attend Preparedness Workshops sponsored by DHS Center for Faith-based and Community Initiatives.

Number of Respondents: 500.

Estimated Time per Respondent: 10 minutes.

Estimated Total Annual Burden Hours: 5,000.

Frequency of Response: On Occasion—once at the workshop and a follow-up six months later.

Presidential Executive Order 13397 directs the Center for Faith-based and Community Initiatives at DHS (CFBCI) to develop and coordinate Departmental outreach efforts to disseminate information more effectively to faith-based and other community organizations and the CFBCI's regional workshops are a piece of that outreach effort. The regional workshops are intended to increase the participation of FBCOs in federally-sponsored programs and activities, and thus qualify as a pilot program. Pursuant to the President's Management Agenda, DHS is required to perform outcomes based evaluations of these pilot programs. The data collected will be used to evaluate whether such the intended increase in participation by faith-based and community organizations has occurred. The information is to be used by the CFBCI to measure the effectiveness of its regional workshops, i.e., to determine whether the workshops result in greater participation by faith-based and community organizations in DHS-sponsored programs and activities. The CFBCI will share the date with the White House Office of Faith-based and Community Initiatives and the Office of Management Budget in connection with the evaluation of the workshop pilot program. This is a new collection.

Charlie Church,
Chief Information Officer, National Protection and Programs Directorate, Department of Homeland Security.

[FR Doc. 07-2933 Filed 6-12-07; 8:45 am]

BILLING CODE 4410-10-M